DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Manufacturers' Shipments, Inventories, and Orders (M3) Survey, Unfilled Orders Benchmark Survey.

Form Number(s): MA-300.

Agency Approval Number: None.

Type of Request: New collection.

Burden: 5,000 hours.

Number of Respondents: 10,000.

Avg Hours Per Response: 30 minutes.

Needs and Uses: The Census Bureau presently conducts the Manufacturers' Shipments, Inventories, and Orders (M3) survey under Office of Management and Budget (OMB) control number 0607-0008. The M3 survey collects monthly data on shipments, inventories, and new and unfilled orders from manufacturing companies. The orders, as well as the shipments and inventory data, are used widely and are valuable tools for analysts of business cycle conditions, including members of the Council of Economic Advisers, the Treasury Department, and the business community.

The monthly M3 estimates are based on a relatively small sample and reflect primarily the month-to-month changes of large companies. There is a clear need for periodic benchmarking of the M3 estimates to reflect the entire manufacturing universe. The Annual Survey of Manufactures (OMB control number 0607-0449) provides annual benchmarks for the shipments and inventory data collected in this monthly survey. However, there is no annual benchmark for new and unfilled orders estimates. Because of the methodology used for the monthly indicator, any discrepancy between the indicator series and statistically derived measures can become exaggerated over time and the results can be misleading to policy makers. The last benchmark survey for unfilled orders estimates was for the year 1986. In addition to the long period between benchmark estimates, the conversion from the Standard Industrial Classification system to NAICS further exacerbates any discrepancy and makes the need for the benchmark survey more critical.

The proposed benchmark survey will collect value of unfilled orders at the end of 1999. Estimates of unfilled orders will be made for industries classified according to the new North American Industry Classification System (NAICS). These estimates will provide benchmark levels of unfilled orders by NAICS industries for the monthly M3 indicator series.

Affected Public: Businesses or other for-profit organizations.

Frequency: One time.

Respondent's Obligation: Mandatory.

Legal Authority: Title 13 U.S.C., Section 182.

OMB Desk Officer: Susan Schechter, (202) 395-5103.

Copies of the above information collection proposal can be obtained by calling or writing Linda Engelmeier, DOC Forms Clearance Officer, (202) 482-3272, Department of Commerce, room 5033, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: January 12, 2000.
Madeleine Clayton,
Management Analyst, Office of the Chief Information Officer.

[FR Doc. 00-1164 Filed 1-18-00; 8:45 am]

BILLING CODE 3510-07-P